DEPARTMENT OF ENERGY

[Case No. CAC-050]

Notice of Petition for Waiver of Johnson Controls, Inc. From the Department of Energy Central Air Conditioners and Heat Pumps Test Procedure, and Notice of Grant of Interim Waiver

AGENCY: Office of Energy Efficiency and Renewable Energy, Department of Energy.

ACTION: Notice of petition for waiver, grant of an interim waiver, and request for comments.

SUMMARY: This notice announces receipt of and publishes a petition for waiver from Johnson Controls, Inc. (JCI) seeking an exemption from the U.S. Department of Energy (DOE) test procedure for determining the efficiency of central air conditioners and heat pumps. JCI seeks to use an alternate test procedure to address issues involved in testing certain basic models identified in its amended petition. According to JCI, testing the basic models of the central air conditioners listed in its amended petition as outdoor units with no match will overstate their energy usage as they will be rated using default indoor unit parameters that are representative of an old, inefficient indoor unit. JCI seeks to use an alternate test procedure to test and rate the basic models listed in its amended petition as matched systems. JCI proposes to waive the DOE test procedure requirement to test these basic models as outdoor units with no match and instead, test these basic models as matched systems. This notice also announces that DOE grants JCI an interim waiver from the DOE central air conditioners and heat pumps test procedure for its specified basic models, subject to use of the alternative test procedure as set forth in the Order. DOE solicits comments, data, and information concerning JCI's amended petition and its suggested alternate test procedure.

DATES: DOE will accept comments, data, and information with respect to the JCI Petition until September 12, 2018.

ADDRESSES: You may submit comments, identified by case number “CAC-050” and Docket number “EERE-2017-BT-WAV-0039,” by any of the following methods:

• Federal eRulemaking Portal: http://www.regulations.gov. Follow the instructions for submitting comments.

• Email: JCI2017WAV0042@ee.doe.gov. Include the case number CAC-050 in the subject line of the message. Submit electronic comments in WordPerfect, Microsoft Word, PDF, or ASCII file format, and avoid the use of special characters or any form of encryption.

• Postal Mail: U.S. Department of Energy, Building Technologies Office, Mailstop EE-5B, Petition for Waiver Case No CAC-050, 1000 Independence Avenue SW, Washington, DC 20585-0121. If possible, please submit all items on a compact disc (CD), in which case it is not necessary to include printed copies.

• Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-WAV-0039. The docket web page will contain simple instruction on how to access all documents, including public comments, in the docket.

FOR FURTHER INFORMATION CONTACT: Mr. Pete Cochran, U.S. Department of Energy, Office of the General Counsel, Mail Stop GC-33, Forrestal Building, 1000 Independence Avenue SW, Washington, DC 20585-0103. Telephone: (202) 586-9496. Email: Peter.Cochran@hq.doe.gov.

SUPPLEMENTARY INFORMATION:

I. Background and Authority

Title III, Part B ¹ of the Energy Policy and Conservation Act of 1975 (EPCA), Public Law 94-163 (42 U.S.C. 6291-6309, as codified) established the Energy Conservation Program for Consumer Products Other Than Automobiles, which includes central air conditioners and heat pumps.² Part B includes definitions, test procedures, labeling provisions, energy conservation standards, and the authority to require information and reports from manufacturers. Further, Part B requires the Secretary of Energy to prescribe test procedures that are reasonably designed to produce results that measure energy efficiency, energy use, or estimated operating costs during a representative average-use cycle, and that are not unduly burdensome to conduct. (42 U.S.C. 6293(b)(3)) The test procedure for central air conditioners and heat pumps is contained in 10 CFR part 430, subpart B, appendix M (referred to in this notice as “appendix M”).

¹ For editorial reasons, upon codification in the U.S. Code, Part B was redesignated as Part A.

² All references to EPCA in this document refer to the statute as amended through the EPS Improvement Act of 2017, Public Law 11-115 (January 12, 2018).

DOE's regulations set forth at 10 CFR 430.27 contain provisions that allow a person to seek a waiver from the test procedure requirements for a particular basic model of a covered product when the petitioner's basic model for which the petition for waiver was submitted contains one or more design characteristics that either (1) prevent testing according to the prescribed test procedure, or (2) cause the prescribed test procedures to evaluate the basic model in a manner so unrepresentative of its true energy consumption characteristics as to provide materially inaccurate comparative data. 10 CFR 430.27(a)(1). A petitioner must include in its petition any alternate test procedures known to the petitioner to evaluate the basic model in a manner representative of its energy consumption. 10 CFR 430.27(b)(1)(iii).

DOE may grant a waiver subject to conditions, including adherence to alternate test procedures. 10 CFR 430.27(f)(2). As soon as practicable after the granting of any waiver, DOE will publish in the Federal Register a notice of proposed rulemaking to amend its regulations so as to eliminate any need for the continuation of such waiver. As soon thereafter as practicable, DOE will publish in the Federal Register a final rule. 10 CFR 430.27(l).

The regulations governing the waiver process also allow DOE to grant an interim waiver if it appears likely that the petition for waiver will be granted or if DOE determines that it would be desirable for public policy reasons to grant immediate relief pending a determination on the petition for waiver. 10 CFR 430.27(e)(2). Within one year of issuance of an interim waiver, DOE will either: (i) Publish in the Federal Register a determination on the petition for waiver; or (ii) publish in the Federal Register a new or amended test procedure that addresses the issues presented in the waiver. 10 CFR 430.27(h)(1). When DOE amends the test procedure to address the issues presented in a waiver, the waiver will automatically terminate on the date on which use of that test procedure is required to demonstrate compliance. 10 CFR 430.27(h)(2).

II. JCI's Petition for Waiver of Test Procedure and Application for Interim Waiver

On April 6, 2017, JCI filed a petition for waiver and an application for interim waiver from the CAC and HP test procedure set forth in 10 CFR part 430, subpart B, appendix M. JCI filed an amended petition for waiver and application for interim waiver on June 5, 2018. According to JCI, the basic models listed in its amended petition ³ are offered as new, matched systems and testing them as outdoor units with no match (as required by the DOE test procedure) will overstate their energy usage. Energy usage for these models will be overstated because these R-407C outdoor units will be rated using default indoor unit parameters that approximate the performance of an old, previously installed indoor unit. JCI seeks to use an alternate test procedure to test and rate the basic models listed in its amended petition. JCI proposes to waive the DOE test procedure requirement to test these basic models as outdoor units with no match and instead, test these basic models as matched systems in accordance with 10 CFR part 430, subpart B, as applicable.

³ The specific basic models are listed in Attachment A to JCI's June 5, 2018 letter (attached at the end of this notice).

JCI also requests an interim waiver from the existing DOE test procedure. An interim waiver may be granted if it appears likely that the petition for waiver will be granted, and/or if DOE determines that it would be desirable for public policy reasons to grant immediate relief pending a determination of the petition for waiver. See 10 CFR 430.27(e)(2).

III. Requested Alternate Test Procedure

EPCA requires that manufacturers use DOE test procedures to make representations about the energy consumption and energy consumption costs of products covered by the statute. (42 U.S.C. 6293(c)) Consistent representations are important for manufacturers to use in making representations about the energy efficiency of their products and to demonstrate compliance with applicable DOE energy conservation standards. Pursuant to its regulations applicable to waivers and interim waivers from applicable test procedures at 10 CFR 430.27, and after consideration of public comments on the petition, DOE will consider setting an alternate test procedure for the equipment identified by JCI in a subsequent Decision and Order.

As an alternate test procedure, JCI proposes that the basic models listed in the amended petition be tested according to the test procedure for central air conditioners and heat pumps prescribed by DOE at 10 CFR part 430, subpart B, appendix M, as applicable, except for the provisions under 10 CFR 429.16(a)(3)(i) that require JCI's R-407C outdoor units to be tested, at a minimum, as outdoor units with no match. Under JCI's proposed alternative test procedure, the basic models listed in the amended petition would be tested as new, matched systems.

IV. Grant of an Interim Waiver

DOE conducted a review of JCI's public-facing materials, including websites, marketing materials, Air-conditioning, Heating, and Refrigeration Institute (AHRI) system matches, and technical guides for the 1,187 system combinations listed in JCI's amended petition that use GAW Series outdoor units and are certified in DOE's Compliance Certification Management System to confirm that these materials support JCI's assertions that these basic models are offered as new, matched systems. All materials reviewed by DOE can be found in the docket. Based on a review of the amended petition and JCI's public-facing materials, it is DOE's current understanding that these basic models, similar to central air conditioners that use other refrigerants, are offered as both matched, new systems and as replacement outdoor units for existing systems. JCI proposes to evaluate the basic models listed in its amended petition in a manner that is representative of the true energy consumption of these products when installed as new, matched systems, similar to how central air conditioners that use other refrigerants and are sold both as new, matched systems and as replacement outdoor units are treated under DOE's test procedures. Consequently, DOE has determined that JCI's amended petition for waiver will likely be granted. Furthermore, as central air conditioners that use other refrigerants and are sold both as new, matched systems and as replacement units are currently not subject to the outdoor unit with no match testing provisions, DOE has determined that it is also desirable for public policy reasons to grant JCI immediate interim relief pending a determination of the amended petition for waiver.

For the reasons stated, DOE has granted JCI's application for interim waiver for its specified basic models of central air conditioners. The substance of DOE's Interim Waiver Order is summarized below.

Therefore, DOE has issued an Order, stating:

(1) JCI must test and rate the CAC and HP basic models listed in paragraph (A) as new, matched systems with the alternate test procedure set forth in paragraph (2):

(A) GAW14L18C2*S, GAW14L24C2*S, GAW14L30C2*S, GAW14L36C2*S, GAW14L42C2*S, GAW14L48C2*S, GAW14L60C2*S

(2) The applicable method of test for the JCI basic models listed in paragraph (1)(A) is the test procedure for CACs and HPs prescribed by DOE at 10 CFR part 430, subpart B, appendix M, except that 10 CFR part 429.16(a)(3)(i) shall be as detailed below. All other requirements of 10 CFR part 429.16 remain applicable.

In 429.16(a), Determination of Represented Value:

(3) Refrigerants. (i) If a model of outdoor unit (used in a single-split, multi-split, multi-circuit, multi-head mini-split, and/or outdoor unit with no match system) is distributed in commerce and approved for use with multiple refrigerants, a manufacturer must determine all represented values for that model using each refrigerant that can be used in an individual combination of the basic model (including outdoor units with no match or “tested combinations”). This requirement may apply across the listed categories in the table in paragraph (a)(1) of this section. A refrigerant is considered approved for use if it is listed on the nameplate of the outdoor unit. If any of the refrigerants approved for use is HCFC-22 or if there are no refrigerants designated as approved for use, a manufacturer must determine represented values (including SEER, EER, HSPF, SEER2, EER2, HSPF2, PW,OFF, cooling capacity, and heating capacity, as applicable) for, at a minimum, an outdoor unit with no match. If a model of outdoor unit is not charged with a specified refrigerant from the point of manufacture (unless either (a) the factory charge is equal to or greater than 70% of the outdoor unit internal volume times the liquid density of refrigerant at 95 °F or (b) an A2L refrigerant is approved for use and listed in the certification report), a manufacturer must determine represented values (including SEER, EER, HSPF, SEER2, EER2, HSPF2, PW,OFF, cooling capacity, and heating capacity, as applicable) for, at a minimum, an outdoor unit with no match.

(3) Representations. JCI is permitted to make representations about the efficiency of basic models that meet the requirements of paragraph (1) for compliance, marketing, or other purposes only to the extent that the basic model has been tested in accordance with the provisions set forth above and such representations fairly disclose the results of such testing in accordance with 10 CFR 429.16 and 10 CFR part 430, subpart B, appendix M.

(4) This interim waiver shall remain in effect consistent with the provisions of 10 CFR 430.27(h) and (k).

(5) DOE may revoke or modify this waiver at any time if it determines the factual basis underlying the petition for waiver is incorrect, or the results from the alternate test procedure are unrepresentative of the basic model's true energy consumption characteristics.

(6) Granting of this interim waiver does not release JCI from the certification requirements set forth at 10 CFR part 429, other than those explicitly stated in paragraph (2).

DOE makes decisions on waivers and interim waivers for only those models specifically set out in the petition, not future models that may be manufactured by the petitioner. JCI may submit a new or amended petition for waiver and request for grant of interim waiver, as appropriate, for additional models of central air conditioners and heat pumps. Alternatively, if appropriate, JCI may request that this interim waiver (or subsequent waiver, if applicable) be extended to additional basic models employing the same technology as basic models specifically set out in this petition (see 10 CFR 430.27(g)).

V. Summary and Request for Comments

Through this notice, DOE announces receipt of JCI's petition for waiver from the DOE test procedure for certain basic models and announces DOE's decision to grant JCI an interim waiver from the test procedure for the basic models listed in JCI's amended petition. DOE is publishing JCI's amended petition for waiver in its entirety, pursuant to 10 CFR 430.27(b)(1)(iv). The amended petition contains no confidential information. The amended petition includes a suggested alternate test procedure, as specified in section III of this notice, to determine the energy consumption of JCI's specified CAC basic models. DOE may consider including the alternate procedure specified in the Order in a subsequent Decision and Order.

DOE invites all interested parties to submit in writing by September 12, 2018, comments and information on all aspects of the amended petition, including the suggested alternate test procedure and calculation and rating methodology. DOE also seeks comment and data on JCI's assertion that it offers R-407C outdoor units as matched systems. Pursuant to 10 CFR 430.27(d), any person submitting written comments to DOE must also send a copy of such comments to the petitioner. The contact information for the petitioner is Steve Tice, Johnson Controls, Inc., 3110 N Mead St., Wichita, KS 67219.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery, or mail. Comments and documents submitted via email, hand delivery, or mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: one copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

Signed in Washington, DC, on August 3, 2018.
Cathy Tripodi,
Acting Assistant Secretary for Energy Efficiency and Renewable Energy.

VIII. Attachment A

Certified GAW Series Product Combinations
Outdoor unit models | Indoor models | Number of unique ducted air mover combinations
GAW14L18C2*S | CF/CM/CU42C+TXV | 22
| CF/CM/CU42D+TXV | 14
| CF/CM/CU48C+TXV | 22
| CF/CM/CU48D+TXV | 22
| CF/CM42D+ME14DN21+TXV | 1
| CF/CM48D+ME14DN21+TXV | 1
| CF42B+ME12BN21+TXV | 1
| CF42B+TXV | 15
| FC/MC/PC37A+TXV | 10
| FC/MC/PC43B+TXV | 14
| FC/MC/PC43C+TXV | 22
| FC/MC/PC48C+TXV | 22
| FC/MC/PC48D+TXV | 26
| FC/MC43B+MV12BN21+TXV | 1
| FC/MC43B+MX12BN21+TXV | 1
| FC/MC48D+MX12DN21+TXV | 1
| FC/PC60C+TXV | 1
| FC1CXT1+TXV | 23
GAW14L24C2*S | CF/CM64D+ME14DN21+TXV | 1
| CF/CM64D+TXV | 38
| FC/MC62D+MX12DN21+TXV | 1
| FC/MC62D+TXV | 36
| FC3DXT1+MX12DN21+TXV | 1
| FC3DXT1+TXV | 37
| FC5DXT1+MX12DN21+TXV | 1
| FC5DXT1+TXV | 36
| FC64D+MX12DN21+TXV | 1
| FC64D+TXV | 36
GAW14L30C2*S | CF/CM64D+ME14DN21+TXV | 1
| CF/CM64D+ME20DN21+TXV | 1
| CF/CM64D+TXV | 39
| FC/MC62D+MX12DN21+TXV | 1
| FC/MC62D+MX20DN21+TXV | 1
| FC/MC62D+TXV | 37
| FC3DXT1+MX12DN21+TXV | 1
| FC3DXT1+MX20DN21+TXV | 1
| FC3DXT1+TXV | 38
| FC5DXT1+MX12DN21+TXV | 1
| FC5DXT1+MX20DN21+TXV | 1
| FC5DXT1+TXV | 37
| FC64D+MX12DN21+TXV | 1
| FC64D+MX20DN21+TXV | 1
| FC64D+TXV | 37
GAW14L36C2*S | CF/CM64D+ME14DN21+TXV | 1
| CF/CM64D+ME20DN21+TXV | 1
| CF/CM64D+TXV | 41
| FC/MC62D+MV12DN21+TXV | 1
| FC/MC62D+MV20DN21+TXV | 1
| FC/MC62D+MX12DN21+TXV | 1
| FC/MC62D+MX20DN21+TXV | 1
| FC/MC62D+TXV | 37
| FC3DXT1+MV12DN21+TXV | 1
| FC3DXT1+MV20DN21+TXV | 1
| FC3DXT1+MX12DN21+TXV | 1
| FC3DXT1+MX20DN21+TXV | 1
| FC3DXT1+TXV | 37
| FC5DXT1+MV12DN21+TXV | 1
| FC5DXT1+MV20DN21+TXV | 1
| FC5DXT1+MX12DN21+TXV | 1
| FC5DXT1+MX20DN21+TXV | 1
| FC5DXT1+TXV | 37
| FC64D+MV12DN21+TXV | 1
| FC64D+MV20DN21+TXV | 1
| FC64D+MX12DN21+TXV | 1
| FC64D+MX20DN21+TXV | 1
| FC64D+TXV | 37
| AE60DX21+TXV | 1
| AHE60D3X(H,T)21+TXV | 1
| RFCX60DE20MP21+TXV | 1
| RFCX60DE20MP22+TXV | 1
GAW14L42C2*S | CF/CM64D+ME14DN21+TXV | 1
| CF/CM64D+ME20DN21+TXV | 1
| CF/CM64D+TXV | 40
| FC/MC62D+MV20DN21+TXV | 1
| FC/MC62D+MX20DN21+TXV | 1
| FC/MC62D+TXV | 41
| FC3DXT1+MV20DN21+TXV | 1
| FC3DXT1+MX20DN21+TXV | 1
| FC3DXT1+TXV | 42
| FC5DXT1+MV20DN21+TXV | 1
| FC5DXT1+MX20DN21+TXV | 1
| FC5DXT1+TXV | 32
| FC64D+MV20DN21+TXV | 1
| FC64D+MX20DN21+TXV | 1
| FC64D+TXV | 32
| AE60DX21+TXV | 1
| AHE60D3X(H,T)21+TXV | 1
| RFCX60DE20MP21+TXV | 1
| RFCX60DE20MP22+TXV | 1
GAW14L48C2*S | CF/CM64D+ME20DN21+TXV | 1
| CF/CM64D+TXV | 20
| FC5DXT1+MV20DN21+TXV | 1
| FC5DXT1+TXV | 34
| FC64D+MV20DN21+TXV | 1
| FC64D+TXV | 33
| AE60DX21+TXV | 1
| RFCX60DE20MP22+TXV | 1
GAW14L60C2*S | CF/CM64D+ME20DN21+TXV | 1
| CF/CM64D+TXV | 19
| FC5DXT1+MV20DN21+TXV | 1
| FC5DXT1+MX20DN21+TXV | 1
| FC5DXT1+TXV | 22
| FC64D+MV20DN21+TXV | 1
| FC64D+MX20DN21+TXV | 1
| FC64D+TXV | 21
| AE60DX21+TXV | 1
| RFCX60DE20MP22+TXV | 1
Total Number of Unique Certified Product Combinations |  | 1,178

[FR Doc. 2018-17188 Filed 8-10-18; 8:45 am]

BILLING CODE 6450-01-P